DEPARTMENT OF THE INTERIOR

Fish and Wildlife Service

[FWS-R1-R-2013-N186; 1265-0000-10137-S3]

Camas National Wildlife Refuge, Jefferson County, ID; Draft Comprehensive Conservation Plan and Environmental Assessment

AGENCY: Fish and Wildlife Service, Interior.

ACTION: Notice of availability; request for comments.

SUMMARY: We, the U.S. Fish and Wildlife Service (Service), announce the availability of our draft comprehensive conservation plan and environmental assessment (Draft CCP/EA) for the Camas National Wildlife Refuge (NWR, Refuge), in Hamer, Idaho, for public review and comment. The Draft CCP/EA describes our proposal for managing the Refuge for the next 15 years.

DATES: To ensure consideration, we need to receive your written comments by February 10, 2014.

ADDRESSES: You may submit comments, requests for more information, or requests for copies by any of the following methods. You may request a hard copy or a CD-ROM of the documents.

Email: FW1PlanningComments@fws.gov. Include “Camas NWR CCP” in the subject line.

Fax: Attn: Brian Wehausen, Refuge Manager, 208-662-5525.

U.S. Mail: Brian Wehausen, Refuge Manager, Camas NWR, 2150 East 2350 North, Hamer, ID 83425.

Web site: http://www.fws.gov/camas/refuge_planning.html; select “Contact Us.”

In-Person Drop-off, Viewing, or Pickup: You may drop off comments during regular business hours at Refuge Headquarters at 2150 East 2350 North, Hamer, ID 83425.

FOR FURTHER INFORMATION CONTACT: Brian Wehausen, Refuge Manager, 208-662-5423.

SUPPLEMENTARY INFORMATION:

Introduction

With this notice, we continue the CCP process at Camas NWR. We started this process through a notice in the Federal Register (75 FR 57053; September 17, 2010).

The Camas Refuge was established by President Franklin D. Roosevelt in 1937 for the purpose of serving as a refuge and breeding ground for migratory birds and other wildlife. The Refuge is located 36 miles north of Idaho Falls, near the community of Hamer, Idaho. The Refuge lies in the upper Snake River plain at approximately 4,800 feet in elevation.

About half of the Refuge's 10,578 acres are lakes, ponds, and marshlands, with the remainder consisting of sagebrush-steppe and semi-desert grassland uplands and meadows. There are 292 known species of wildlife that utilize the Refuge during various periods of the year. Approximately 100 species of migratory birds nest at the Refuge, and it is especially important to migrating land birds. A large number of songbirds use the Refuge's cottonwood groves, which are also a significant winter roost site for bald eagles. Greater sandhill cranes gather on the Refuge prior to fall migration. Sage grouse use the Refuge during brood rearing. During migration, which peaks during March and April, and again in October, up to 50,000 ducks, 3,000 geese, and several hundred tundra and trumpeter swans may be present on the Refuge. The Refuge also hosts elk, white-tailed deer, mule deer, pronghorn, and moose.

Background

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, such as the National Environmental Policy Act, and our policies. In addition to outlining broad management direction on conserving wildlife and their habitats, CCPs identify compatible wildlife-dependent recreational opportunities available to the public, including opportunities for hunting, fishing, wildlife observation and photography, and environmental education and interpretation. We will review and update the CCP at least every 15 years in accordance with the Refuge Administration Act.

CCP Alternatives We Are Considering

During the public scoping process, we, along with other governmental agencies, Tribes, and the public, raised several issues which our Draft CCP/EA addresses. To address these issues, we developed and evaluated the following alternatives, summarized below:

Alternative 1 (No-Action)

This alternative represents current management.

Wildlife and Habitat: Under Alternative 1, the Refuge would continue to be managed to provide consistent deep wetland habitats April through October to support reliable levels of annual waterfowl production. Providing hemi-marsh habitat (habitat with approximately equal areas of emergent vegetation and open water) would continue to be the primary management emphasis. Camas Creek would remain highly altered (diked and incised), and minimal overbank flooding would occur. Management of upland habitats (sagebrush steppe and grasslands) would be minimal (mostly invasive species control and monitoring). Shelterbelt habitats would continue to be irrigated. Tall, mature cottonwoods nearing the end of their life spans would be replaced, and non-native understory trees and shrubs would be replaced with native species.

One hundred forty acres of alfalfa and 20 acres of small grain would be grown annually under cooperative farming agreements. Three hundred thirty acres of formerly farmed fields would be flood irrigated annually, and 150 acres of these fields would be hayed annually by cooperative farmers.

Public Use: The Refuge would maintain existing public use facilities, including a parking lot and information kiosk, 0.5-mile pedestrian birding trail and viewing platform, 6.3-mile auto tour road, and 6.5 miles of hunter access roads. Year-round hiking, biking, jogging, cross-country skiing, and/or snowshoeing would be allowed on approximately 27 miles of unimproved service roads. Off-road hiking would be permitted throughout the Refuge from July 15 through February 28. Approximately 24 percent (2,510 acres) of Camas NWR would be open to hunting of migratory game birds (ducks, geese, mergansers, American coots, and Wilson's snipe) and upland game birds (ring-necked pheasants, gray partridge, and sage-grouse) during the State seasons.

Interpretation and environmental education programs would be limited, with no staff or facilities dedicated to these programs. The size of the volunteer program would continue to be limited due to the lack of staff to recruit, train, and manage them.

Alternative 2 (Preferred Alternative)

Wildlife and Habitat: Under Alternative 2, the Service's Preferred Alternative, the Refuge would provide a more diverse array of wetland, riparian, and upland habitats for not only waterfowl, but a variety of migratory birds and other wildlife. The Refuge would develop a long-term rehabilitation plan for Camas Creek and Refuge wetlands (Wetland and Riparian Rehabilitation Plan or WRRP) by 2017. A Hydrogeomorphic (HGM) Assessment and predictive modeling of water flows based on changes to infrastructure would be completed prior to developing the WRRP. Once the WRRP is completed, the Refuge would initiate strategies, consistent with Idaho water law, to restore the historic form and fluvial processes (e.g. overbank flooding) of Camas Creek. If such restoration is impossible, the stream channel and riparian zone would be rehabilitated to a state of equilibrium with the watershed's ongoing water-sediment production regime, such that the creek is no longer actively incising.

From 2013 to 2017, we would decrease hemi-marsh habitat to 285 acres (range 250-300 acres) within 3-4 annually flooded impoundments, while 2-3 impoundments would be dewatered (drawn down) annually. While the Refuge would provide less deepwater habitat, it would provide more shallow seasonal and habitat, and wetland productivity would increase. Existing naturalized shelterbelt habitat would continue to be managed for tall mature cottonwoods and native understory trees and shrubs, to provide habitat for migratory landbirds and maintain quality wildlife viewing opportunities.

Cooperative farming (160 acres) and haying (150 acres annually) would continue. However, only 150 acres of formerly farmed fields would be irrigated for hay production annually.

Public Use: Waterfowl and upland game bird hunting would continue as in Alternative 1. In addition we would establish an elk hunt on 4,112 acres of the Refuge in line with State seasons for GMU 63. A maximum of 20 access permits for elk hunting would be issued annually, with priority being given to youth and mobility impaired hunters.

As in Alternative 1, the 6.3-mile, one-way auto tour route would be maintained year round, and 6.5 miles of Refuge roads (leading to the north and south waterfowl and upland game hunting units) would be open to vehicle and pedestrian access during hunt seasons. The birding trail would be extended from .5 miles to 1.3 miles. Year-round pedestrian hiking, biking, jogging, cross-country skiing, or snowshoeing would be allowed on approximately 27 miles of unmaintained and ungroomed Refuge service roads as conditions permit. The use of personal portable photo blinds (up to 5 on the Refuge daily) would be allowed within 100 feet of Refuge roads or trails. To avoid disturbances to wildlife and their habitat, off-road hiking would be prohibited, except by hunters with valid State licenses in the hunt areas during State seasons. A small visitor contact station, environmental education multi-purpose room, and Refuge office would be constructed.

Alternative 3

Wildlife and Habitat: Under Alternative 3, upland (sagebrush-steppe and native grassland), wetland, and riparian habitats would receive equal management emphasis. As in Alternative 2, the Refuge would develop a long-term rehabilitation plan for Camas Creek and Refuge wetlands (Wetland and Riparian Rehabilitation Plan) by 2017. In addition, the Refuge would emphasize restoring landscape connectivity within sagebrush ecosystems. Upland management would emphasize maintaining and restoring structural and functional attributes of sage-steppe habitat.

Within the next 8 years, acres of cooperative farming on the Refuge would decrease from 160 acres to 80 acres (60 of irrigated alfalfa and 20 acres of irrigated small grain). Eighty acres of farmland would be slowly restored back to a native sage-steppe community. The Refuge's 330 acres of formerly farmed fields would no longer be irrigated. Haying would occur on up to 150 acres of dryland meadows annually, without irrigation.

As in Alternative 2, existing naturalized shelterbelt habitat would continue to be maintained. Over time, mature cottonwoods would be replaced, while non-native understory trees and shrubs would be replaced with native species. The Refuge would seek outside funding sources to maintain existing shelterbelt habitat and expand this habitat on the periphery of the existing stand, adjacent to current irrigation infrastructure.

Public Use: The waterfowl and upland game bird hunting programs would continue as described in Alternatives 1 and 2. As in Alternative 2, we would establish an elk hunt on 4,112 acres of the Refuge in line with State seasons for GMU 63. A maximum of 20 access permits for elk hunting would be issued annually, with priority being given to youth and mobility impaired hunters.

Other public use facilities and programs would be as described for Alternative 2, except that the Refuge would open the 7.5-mile Sandhole Lake loop road seasonally (July 1 through November 1) for vehicle traffic; 10 miles of service roads would be groomed in winter for cross country skiing; and off-road hiking would be allowed year-round on the north waterfowl and upland game hunting unit (980 acres), and January 1 through July 31 in the south waterfowl and upland game hunting unit (1,530 acres). Off-road hiking would be prohibited on the rest of the Refuge to avoid disturbances to wildlife and their habitat. In addition to allowing the use of portable photography blinds (up to 5 per day) within 100 feet of roads, the Refuge would construct three semi-permanent photo blinds. As in Alternative 2, new facilities would allow the Refuge's interpretive, environmental education, and volunteers programs to expand.

Public Availability of Documents

In addition to the information in ADDRESSES, you can view copies of the Draft CCP/EA on the internet at http://www.fws.gov/camas/refuge_planning.html, and printed copies will be available for review at the following libraries: Hamer Public Library, 2450 East 2100 North, Hamer, ID 83425; Idaho Falls Public Library, 457 W. Broadway, Idaho Falls, ID 83402; Rigby City Library, 110 North State Street, Rigby, ID 83442; Marshall Public Library, 113 S. Garfield Ave., Pocatello, ID 83204.

Next Steps

After this comment period ends, we will analyze the comments and address them in a final CCP and decision document.

Public Availability of Comments

Before including your address, phone number, email address, or other personal identifying information in your comment, you should be aware that your entire comment—including your personal identifying information—may be made publicly available at any time. While you can ask us in your comment to withhold your identifying information from the public, we cannot guarantee that we will be able to do so.

Dated: September 13, 2013.
Richard Hannan,
Acting Regional Director, Pacific Region, Portland, Oregon.

[FR Doc. 2014-00136 Filed 1-8-14; 8:45 am]

BILLING CODE 4310-55-P